SMALL BUSINESS ADMINISTRATION

[Disaster Declaration # 16811 and # 16812; Alabama Disaster Number AL-00116]

Presidential Declaration Amendment of a Major Disaster for Public Assistance Only for the State of Alabama

AGENCY: U.S. Small Business Administration.

ACTION: Amendment 2.

SUMMARY: This is an amendment of the Presidential declaration of a major disaster for Public Assistance Only for the State of Alabama (FEMA-4573-DR), dated 12/10/2020.

Incident: Hurricane Zeta.

Incident Period: 10/28/2020 through 10/29/2020.

DATES: Issued on 01/27/2021.

Physical Loan Application Deadline Date: 02/08/2021.

Economic Injury (EIDL) Loan Application Deadline Date: 09/10/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Alabama, dated 12/10/2020, is hereby amended to include the following areas as adversely affected by the disaster.

Primary Counties: Lowndes

All other information in the original declaration remains unchanged.

(Catalog of Federal Domestic Assistance Number 59008)

Cynthia Pitts,
Acting Associate Administrator for Disaster Assistance.

[FR Doc. 2021-02142 Filed 2-1-21; 8:45 am]

BILLING CODE 8026-03-P